DEPARTMENT OF VETERANS AFFAIRS

[OMB Control No. 2900-0161]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before June 10, 2005.

FOR FURTHER INFORMATION OR A COPY OF THE SUBMISSION CONTACT: Denise McLamb, Records Management Service (005E3), Department of Veterans Affairs, 810 Vermont Avenue, NW., Washington, DC 20420, (202) 273-8030, fax (202) 273-5981 or e-mail: denise.mclamb@mail.va.gov. Please refer to “OMB Control No. 2900-0161.”

Send comments and recommendations concerning any aspect of the information collection to VA's OMB Desk Officer, OMB Human Resources and Housing Branch, New Executive Office Building, Room 10235, Washington, DC 20503 (202) 395-7316. Please refer to “OMB Control No. 2900-0161” in any correspondence.

SUPPLEMENTARY INFORMATION: Title: Medical Expense Report, VA Form 21-8416.

OMB Control Number: 2900-0161.

Type of Review: Extension of a currently approved collection.

Abstract: VA Form 21-8416 is completed by beneficiaries in receipt of or claiming income-based benefits to report medical expenses paid in connection with claims for pension and other income-based benefits. Unreimbursed medical expenses paid by a beneficiary or claimant may be excluded from their countable income. VA uses the data collected to determine the claimant's entitlement to improved pension and the appropriate rate payable.

An agency may not conduct or sponsor, and a person is not required to respond to a collection of information unless it displays a currently valid OMB control number. The Federal Register notice with a 60-day comment period soliciting comments on this collection of information was published on January 11, 2005, at page 1934.

Affected Public: Individuals or households.

Estimated Annual Burden: 48,200 hours.

Estimated Average Burden per Respondent: 30 minutes.

Frequency of Response: On occasion.

Estimated Number of Respondents: 96,400.

Dated: April 29, 2005.
By direction of the Secretary.
Loise Russell,
Director, Records Management Service.

[FR Doc. E5-2303 Filed 5-10-05; 8:45 am]

BILLING CODE 8320-01-P